ENVIRONMENTAL PROTECTION AGENCY

[FRL-7212-7]

EPA Board of Scientific Counselors, Office of Research and Development, Board of Scientific Counselors Notice of Charter Renewal

AGENCY: Environmental Protection Agency.

ACTION: Notice of charter renewal.

SUMMARY: The Charter for the Environmental Protection Agency's (EPA) Board of Scientific Counselors (BOSC) will be renewed for an additional two-year period, as a necessary committee which is in the public interest, in accordance with the provisions of the Federal Advisory Committee Act (FACA), 5 U.S.C. app. 2 section 9(c). The purpose of BOSC is to counsel the Assistant Administrator for Research and Development (AA/ORD), on the operation of ORD's research program. It is determined that BOSC is in the public interest in connection with the performance of duties imposed on the Agency by law.

FOR FURTHER INFORMATION CONTACT: Inquiries may be directed to Ms. Shirley Hamilton, Designated Federal Officer, BOSC, U.S. EPA, Office of Research and Development (mail code 8701R), 1200 Pennsylvania Avenue, NW., Washington, DC 20460, Telephone (202) 564-6853 or hamilton.shirley@epa.gov.

Dated: April 2, 2002.
Peter W. Preuss,
Director, National Center for Environmental Research.

[FR Doc. 02-12284 Filed 5-15-02; 8:45 am]

BILLING CODE 6560-50-P